DEPARTMENT OF LABOR

Employment and Training Administration

[TA-W-51,345]

State of Alaska Commercial Fisheries Entry Commission Permit Number S03T56513U, Manokotak, AK; Notice of Revised Determination on Reconsideration

By letter of April 25, 2003, the company official requested administrative reconsideration of the Department's Negative Determination Regarding Eligibility for Workers under State of Alaska Commercial Fisheries Entry Commission Permit Number S03T56513U, Manokotak, Alaska, to Apply for Worker Adjustment Assistance. The notice was published in the Federal Register on April 24, 2003 (68 FR 20177).

The initial petition was denied because there had been no employment decline. The company official however has provided information showing that all workers producing salmon were permanently separated from employment with the subject firm.

The subject firm supplied salmon to a processor whose workers were certified eligible to apply for trade adjustment assistance. The loss of business with the salmon processor contributed importantly to worker separations under State of Alaska Commercial Fisheries Entry Commission Permit Number S03T56513U, Manokotak, Alaska.

Conclusion

After careful review of the facts obtained in the reconsideration, I determine that workers covered by State of Alaska Commercial Fisheries Entry Commission, Permit Number S03T56513U, Manokotak, Alaska, qualify as adversely affected secondary workers under section 222 of the Trade Act of 1974.

In accordance with the provisions of the Act, I make the following revised determination:

“All workers of State of Alaska Commercial Fisheries Entry Commission, Permit Number S03T56513U, Manokotak, Alaska, who became totally or partially separated from employment on or after March 24, 2002, through two years from the date of certification, are eligible to apply for adjustment assistance under Section 223 of the Trade Act of 1974.”

Signed in Washington, DC, this 1st day of December, 2003.
Linda G. Poole,
Certifying Officer, Division of Trade Adjustment Assistance.

[FR Doc. 03-32282 Filed 12-31-03; 8:45 am]

BILLING CODE 4510-30-P